DEPARTMENT OF THE INTERIOR

Fish and Wildlife Service

Availability of the Recovery Plan for the Endangered Fat Threeridge (Amblema neislerii), Shinyrayed Pocketbook (Lampsilis subangulata), Gulf Moccasinshell (Medionidus penicillatus), Ochlockonee Moccasinshell (Medionidus simpsonianus), Oval Pigtoe (Pleurobema pyriforme) and the Threatened Chipola Slabshell (Elliptio chipolaensis), and Purple Bankclimber (Elliptoideus sloatianus)

AGENCY: Fish and Wildlife Service, Interior.

ACTION: Notice of document availability.

SUMMARY: We, the Fish and Wildlife Service (Service), announce the availability of the final recovery plan for seven freshwater mussels—the endangered fat threeridge (Amblema neislerii), shinyrayed pocketbook (Lampsilis subangulata), Gulf moccasinshell (Medionidus penicillatus), Ochlockonee moccasinshell (Medionidus simpsonianus), oval pigtoe (Pleurobema pyriforme) and the threatened Chipola slabshell (Elliptio chipolaensis), and purple bankclimber (Elliptoideus sloatianus). These species are endemic to several river basins (Apalachicola-Chattahoochee-Flint, Ochlockonee, Suwannee, and Econfina Creek) in Alabama, Florida, and Georgia. The recovery plan includes specific recovery objectives and criteria to be met in order to downlist these mussels to threatened status or delist them under the Endangered Species Act of 1973, as amended.

ADDRESSES: Copies of this recovery plan are available by request from Jerry Ziewitz, U.S. Fish and Wildlife Service, Panama City Field Office, 1601 Balboa Avenue, Panama City, Florida 32405 (Telephone 850/769-0552, Ext. 223). Recovery plans approved by the Service are also available on the Internet at: http://endangered.fws.gov/recovery/Index.html#plans, or may also be obtained from the Fish and Wildlife Reference Service, 5430 Grosvenor Lane, Suite 110, Bethesda, Maryland, 20814 (Telephone (301) 492-6403 or (800) 582-3421). The fee for the plan varies depending on the number of pages in the plan.

FOR FURTHER INFORMATION CONTACT: Jerry Ziewitz, at the address and telephone number given above.

SUPPLEMENTARY INFORMATION:

Background

Restoring endangered or threatened animals or plants to the point where they are again secure, self-sustaining members of their ecosystem is a primary goal of our endangered species program. To help guide the recovery effort, we are working to prepare recovery plans for most of the listed species native to the United States. Recovery plans describe actions considered necessary for the conservation of the species, establish criteria for downlisting or delisting them, and estimate time and cost for implementing necessary recovery measures.

The Endangered Species Act of 1973, as amended (16 U.S.C. 1531 et seq.) (Act) requires the development of recovery plans for listed species unless such a plan would not promote the conservation of a particular species. Section 4(f) of the Act requires us to provide a public notice and an opportunity for public review and comment during recovery plan development. We developed a technical/agency draft of this recovery plan and released it for public review on September 16, 1999 (64 FR 50301). We made substantial revisions to the 1999 draft based on comments received and recently obtained biological information. Because of this, we provided an additional opportunity for stakeholders to comment by issuing an updated draft plan. We published a notice of availability of the agency draft recovery plan for these seven mussels in the Federal Register on July 17, 2003 (68 FR 42419). A public comment period was opened with the notice, closing on August 18, 2003. Comments and information submitted by peer reviewers and other interested parties have been considered in preparation of the final recovery plan and, where appropriate, incorporated. We and other Federal agencies will take these comments into account in the course of implementing approved recovery plans.

We listed these seven mussels, five as endangered and two as threatened species under the Act, on March 16, 1998 (63 FR 12664). The seven freshwater mussels are restricted to a few river basins (Apalachicola-Chattahoochee-Flint, Ochlockonee, Suwannee, and Econfina Creek) in Alabama, Florida, and Georgia. They were once distributed across hundreds of stream miles in these basins and now survive in a few relatively small, isolated populations scattered throughout their former range.

Habitat alteration, including impoundments, channelization, gravel mining, contaminants, sedimentation, and stream-flow depletion, is likely the principal cause of these species' decline in range and abundance. Genetic factors associated with increasingly small and isolated populations and the introduction of alien species may present additional obstacles to their recovery.

The objective of this recovery plan is to provide a framework for the recovery of these seven species so that protection under the Act is no longer necessary. As recovery criteria are met, the status of the seven species will be reviewed and they will be considered for reclassification to threatened status or for removal from the Federal List of Endangered and Threatened Wildlife and Plants (50 CFR part 17).

Authority: The authority for this action is section 4(f) of the Endangered Species Act, 16 U.S.C. 1533 (f).

Dated: September 5, 2003.
Noreen Walsh,
Acting Regional Director, Southeast Region, U.S. Fish and Wildlife Service.

[FR Doc. 03-24838 Filed 9-30-03; 8:45 am]

BILLING CODE 4310-55-P